DEPARTMENT OF HOMELAND SECURITY

[Docket No. DHS-2013-0043]

General Meeting Registration and Evaluation

AGENCY: National Protection and Programs Directorate, DHS.

ACTION: 30-day notice and request for comments; new information collection request: 1670—NEW.

SUMMARY: The Department of Homeland Security (DHS), National Protection and Programs Directorate (NPPD, Office of Cybersecurity and Communications (CS&C), Office of Emergency Communications (OEC), will submit the following information collection request (ICR) to the Office of Management and Budget (OMB) for review and clearance in accordance with the Paperwork Reduction Act of 1995 (Pub. L. 104-13, 44 U.S.C. Chapter 35). NPPD is soliciting comments concerning New Information Collection Request, General Meeting Registration and Evaluation. DHS previously published this ICR in the Federal Register on March 17, 2011, at 76 FR 52, for a 60-day public comment period. DHS received no comments. The purpose of this notice is to allow an additional 30 days for public comments.

DATES: Comments are encouraged and will be accepted until June 18, 2014. This process is conducted in accordance with 5 CFR 1320.10.

ADDRESSES: Interested persons are invited to submit written comments on the proposed information collection to the OMB Office of Information and Regulatory Affairs. Comments should be addressed to OMB Desk Officer, Department of Homeland Security, Office of Civil Rights and Civil Liberties. Comments must be identified by “DHS-2013-0043” and may be submitted by one of the following methods:

• Federal eRulemaking Portal: http://www.regulations.gov.

• Email: oira_submission@omb.eop.gov. Include the docket number in the subject line of the message.

• Fax: (202) 395-5806.

Instructions: All submissions received must include the words “Department of Homeland Security” and the docket number for this action. Comments received will be posted without alteration at http://www.regulations.gov, including any personal information provided.

OMB is particularly interested in comments that:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

SUPPLEMENTARY INFORMATION: OEC was formed under Title XVIII of the Homeland Security Act of 2002, 6 U.S.C. 101 et seq., as amended, to fulfill its statutory responsibility of conducting nationwide outreach through hosted events, including conferences, meetings, workshops, etc. The general registration form, pre-meeting form, and post-meeting/workshop/training evaluation form will be used to gather information to support these events and for follow-up with stakeholders that attend such events. The registration, pre-meeting, and evaluation forms may be submitted electronically or in paper form.

Analysis

Agency: Department of Homeland Security, National Protection and Programs Directorate, Office of Cybersecurity and Communications, Office of Emergency Communications

Title: General Meeting Registration and Evaluation.

OMB Number: 1670—NEW.

General Registration Form

Frequency: On occasion.

Affected Public: State, local, or tribal government.

Number of Respondents: 5,000.

Estimated Time Per Respondent: 10 minutes.

Total Burden Hours: 850 annual burden hours.

Total Burden Cost (capital/startup): $0.

Total Burden Cost (operating/maintaining): $22,457.

Pre-Meeting Survey

Frequency: On occasion.

Affected Public: State, local, or tribal government.

Number of Respondents: 5,000.

Estimated Time per Respondent: 10 minutes.

Total Burden Hours: 850 annual burden hours.

Total Burden Cost (capital/startup): $0.

Total Burden Cost (operating/maintaining): $22,457.

Post-Meeting/Workshop/Training Evaluation

Frequency: On occasion.

Affected Public: State, local, or tribal government.

Number of Respondents: 5,000.

Estimated Time per Respondent: 15 minutes.

Total Burden Hours: 1,250 annual burden hours.

Total Burden Cost (capital/startup): $0.

Total Burden Cost (operating/maintaining): $33,025.

Dated: May 9, 2014.
Scott Libby,
Deputy Chief Information Officer,National Protection and Programs Directorate, Department of Homeland Security.

[FR Doc. 2014-11392 Filed 5-16-14; 8:45 am]

BILLING CODE 9110-9P-P